DEPARTMENT OF THE TREASURY

Office of the Comptroller of the Currency

12 CFR Chapter I

[Docket ID FFIEC-2014-0001]

BOARD OF GOVERNORS OF THE FEDERAL RESERVE SYSTEM

12 CFR Chapter II

[Docket No. OP-1491]

FEDERAL DEPOSIT INSURANCE CORPORATION

12 CFR Chapter III

Regulatory Publication and Review Under the Economic Growth and Regulatory Paperwork Reduction Act of 1996

AGENCIES: Office of the Comptroller of the Currency (“OCC”), Treasury; Board of Governors of the Federal Reserve System (“Board”); and Federal Deposit Insurance Corporation (“FDIC”).

ACTION: Notice of outreach meeting.

SUMMARY: The OCC, Board, and FDIC (“we” or “Agencies”) announce the second in a series of outreach meetings on the Agencies' interagency process to review their regulations under the Economic Growth and Regulatory Paperwork Reduction Act of 1996 (“EGRPRA”).

DATES: An outreach meeting will be held on Wednesday, February 4, 2015, beginning at 9:00 a.m. Central Standard Time (CST). Online registrations will be accepted through January 28, 2015, or until all seats are filled, whichever is earlier. If seats are available, individuals may register in person at the Federal Reserve Bank of Dallas on the day of the meeting. Additional outreach meetings are scheduled for Boston on May 4, 2015; Chicago on October 19, 2015; and Washington, DC, on December 2, 2015. The Agencies also plan to hold an outreach meeting this summer that will focus on rural banks.

ADDRESSES: The Agencies will hold the February 4, 2015, outreach meeting at the Federal Reserve Bank of Dallas, 2200 N. Pearl St., Dallas, Texas 75201. Live video of this meeting will be streamed at http://egrpra.ffiec.gov/. All Dallas participants should register at http://egrpra.ffiec.gov/outreach/outreach-index.html. Any interested individual may submit comments through the EGRPRA Web site during open comment periods at: http://egrpra.ffiec.gov/submit-comment/submit-comment-index.html.

FOR FURTHER INFORMATION CONTACT: OCC: Heidi M. Thomas, Special Counsel, (202) 649-5490; for persons who are deaf or hard of hearing, TTY (202) 649-5597.

Board: Claudia Von Pervieux, Counsel, (202) 452-2552; for persons who are deaf or hard of hearing, TTY (202) 263-4869.

FDIC: Ruth R. Amberg, Assistant General Counsel, (202) 898-3736; for persons who are deaf or hard of hearing, TTY 1-800-925-4618.

SUPPLEMENTARY INFORMATION: EGRPRA ¹ directs the Agencies, along with the Federal Financial Institutions Examination Council (Council), not less frequently than once every ten years, to conduct a review of their regulations to identify outdated or otherwise unnecessary regulations. The Agencies are holding a series of at least five outreach meetings to provide an opportunity for bankers, consumer and community groups, and other interested persons to present their views directly to senior management and staff of the Agencies on any of 12 specific categories of regulations, as further described below. The Agencies held the first of these outreach meetings on December 2, 2014, in Los Angeles, California.²

¹ Public Law 104-208 (1996), 110 Stat. 3009-414, codified at 12 U.S.C. 3311.

² A taped video of this outreach meeting is available on the EGRPRA Web site at http://egrpra.ffiec.gov/outreach/outreach-index.html.

The second outreach meeting will be held on February 4, 2015, in Dallas, Texas. Senior agency staff from the OCC, FDIC and Board are scheduled to attend. Video of this meeting will be streamed live at http://egrpra.ffiec.gov/. The meeting will consist of panels of bankers and consumer and community groups who will present particular issues. There will be limited time after each panel for comments from meeting attendees. In addition, there will be a session at the end of the meeting during which audience members may present views on any of the regulations under review. The Agencies reserve the right to limit the time of individual commenters, if needed, in order to accommodate the number of persons desiring to speak.

Comments made by panelists and audience members at this meeting will be reflected in the public comment file. Audience members who do not wish to comment orally may submit written comments at the meeting. In addition, any interested individual may submit comments through the EGRPRA Web site during open comment periods at: http://egrpra.ffiec.gov/submit-comment/submit-comment-index.html. Further outreach meetings are scheduled for Boston on May 4, 2015; Chicago on October 19, 2015; and Washington, DC, on December 2, 2015. The Agencies also plan to hold an outreach meeting this summer that will focus on rural banks.

All participants should register for the Dallas outreach meeting at http://egrpra.ffiec.gov/outreach/outreach-index.html. Because of space constraints, on-site attendance will be limited. Online registrations will be accepted through January 28, 2015, or until all seats are filled, whichever is earlier. If seats are available, individuals may register in person at the Federal Reserve Bank of Dallas on the day of the meeting. Registration is not required to view the live-stream broadcast.

Further details about the first outreach meeting, including the agenda, are published on the EGRPRA Web site at http://egrpra.ffiec.gov/outreach/outreach-index.html.

Additional Background on EGRPRA

Section 2222 of EGRPRA directs the Agencies, along with the Council, to conduct a review of their regulations not less frequently than once every ten years to identify outdated or otherwise unnecessary regulatory requirements imposed on insured depository institutions. In conducting this review, the Agencies are required to categorize their regulations by type and, at regular intervals, provide notice and solicit public comment on categories of regulations, requesting commenters to identify areas of regulations that are outdated, unnecessary, or unduly burdensome. The statute requires the Agencies to publish in the Federal Register a summary of the comments received, identifying significant issues raised and commenting on these issues. The statute also directs the Agencies to eliminate unnecessary regulations to the extent that such action is appropriate. Finally, section 2222 requires the Council, of which the Agencies are members, to submit a report to Congress that summarizes any significant issues raised in the public comments and the relative merits of such issues. The report also must include an analysis of whether the Agencies are able to address the regulatory burdens associated with such issues by regulation or whether these burdens must be addressed by legislative action.

For purposes of this review, the Agencies have grouped our combined regulations into 12 categories: Applications and Reporting; Banking Operations; Capital; Community Reinvestment Act; Consumer Protection; Directors, Officers and Employees; International Operations; Money Laundering; Powers and Activities; Rules of Procedure; Safety and Soundness; and Securities. On June 4, 2014, we published a Federal Register notice asking for public comment on three of these categories—Applications and Reporting, Powers and Activities, and International Operations regulations.³ We also published a chart listing all of the regulations included in the EGRPRA review. Over the next year, we will publish additional notices, seeking comment on the remaining categories.

³ 79 FR 32172.

Dated: January 8, 2015.
Thomas J. Curry,
Comptroller of the Currency.
By order of the Board of Governors of the Federal Reserve System, January 9, 2015.
Robert deV. Frierson,
Secretary of the Board.
Dated: January 8, 2015.
Federal Deposit Insurance Corporation by,
Robert E. Feldman,
Executive Secretary.

[FR Doc. 2015-00516 Filed 1-14-15; 8:45 am]

BILLING CODE 4810-33-P; 6210-01-P; 6714-01-P